DEPARTMENT OF COMMERCE

Foreign-Trade Zones Board

[S-90-2016]

Foreign-Trade Zone 18—San Jose, California; Application for Subzone Expansion; Subzone 18E; Space Systems/Loral, LLC; Palo Alto, Menlo Park and Mountain View, California

An application has been submitted to the Foreign-Trade Zones (FTZ) Board by the City of San Jose, California, grantee of FTZ 18, requesting to expand Subzone 18E on behalf of Space Systems/Loral, LLC, located in Palo Alto, Menlo Park and Mountain View, California. The application was submitted pursuant to the provisions of the Foreign-Trade Zones Act, as amended (19 U.S.C. 81a-81u), and the regulations of the FTZ Board (15 CFR part 400). It was formally docketed on June 22, 2016.

Subzone 18E was approved on June 16, 2006 (71 FR 37041, June 29, 2006) and currently consists of five sites: Site 1 (28.4 acres)—3825, 3850 and 3875 Fabian Way, Palo Alto; Site 2 (1 acre)—3977 and 3963 Fabian Way, Palo Alto; Site 3 (5 acres)—1034-1036 and 1025 E. Meadow Circle, Palo Alto; Site 4 (2.5 acres)—1205 and 1145 Hamilton Court, Menlo Park; and, Site 5 (2.5 acres)—2288 Charleston Road, Mountain View. The applicant is now requesting authority to expand the subzone to include a new site (3.63 acres) located at 1989 Little Orchard Street, San Jose. No additional production authority is being requested at this time. The expanded subzone would be subject to the existing activation limit of FTZ 18.

In accordance with the FTZ Board's regulations, Christopher Kemp of the FTZ Staff is designated examiner to review the application and make recommendations to the Executive Secretary.

Public comment is invited from interested parties. Submissions shall be addressed to the FTZ Board's Executive Secretary at the address below. The closing period for their receipt is August 9, 2016. Rebuttal comments in response to material submitted during the foregoing period may be submitted during the subsequent 15-day period to August 24, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at christopher.kemp@trade.gov or (202) 482-0862.

Dated: June 22, 2016.
Elizabeth Whiteman,
Acting Executive Secretary.

[FR Doc. 2016-15629 Filed 6-29-16; 8:45 am]

BILLING CODE 3510-DS-P